DEPARTMENT OF COMMERCE

National Oceanic and Atmospheric Administration

National Sea Grant Review Panel

AGENCY: National Oceanic and Atmospheric Administration, Commerce.

ACTION: Notice; correction.

SUMMARY: The Department of Commerce published a document in the Federal Register of November 3, 2004, concerning the National Sea Grant Review Panel's notice of public meeting. The document contained an incorrect meeting location.

FOR FURTHER INFORMATION CONTACT: Dr. Francis M. Schuler, 301-713-2445.

Correction

In the Federal Register of November 3, 2004, in FR Doc. 04-24538, on page 64033, in the first column, correct the ADDRESSES caption to read: On November 17th, The Churchill Hotel, 1914 Connecticut Avenue, Northwest, Washington, DC 20009. On November 18th, Sea Grant Association Office, 1201 New York Avenue, Northwest, 4th Floor Conference Room, Washington, DC 20005.

Louisa Koch,
Deputy Assistant Administrator, Office of Oceanic and Atmospheric Research.

[FR Doc. 04-24909 Filed 11-8-04; 8:45 am]

BILLING CODE 3510-KA-P